FEDERAL EMERGENCY MANAGEMENT AGENCY

44 CFR Part 67

[Docket No. FEMA-D-7528]

Proposed Flood Elevation Determinations

AGENCY: Federal Emergency Management Agency, FEMA.

ACTION: Proposed rule.

SUMMARY: Technical information or comments are requested on the proposed base (1% annual chance) flood elevations and proposed base flood elevation modifications for the communities listed below. The base flood elevations are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed base flood elevations for each community are available for inspection at the office of the Chief Executive Officer of each community. The respective addresses are listed in the following table.

FOR FURTHER INFORMATION CONTACT: Matthew B. Miller, P.E., Chief, Hazards Study Branch, Federal Insurance and Mitigation Administration, Federal Emergency Management Agency, 500 C Street SW., Washington, DC 20472, (202) 646-3461, or (e-mail) matt.miller@fema.gov.

SUPPLEMENTARY INFORMATION: The Federal Emergency Management Agency (FEMA or Agency) proposes to make determinations of base flood elevations and modified base flood elevations for each community listed below, in accordance with Section 110 of the Flood Disaster Protection Act of 1973, 42 U.S.C. 4104, and 44 CFR 67.4(a).

These proposed base flood and modified base flood elevations, together with the floodplain management criteria required by 44 CFR 60.3, are the minimum that are required. They should not be construed to mean that the community must change any existing ordinances that are more stringent in their floodplain management requirements. The community may at any time enact stricter requirements of its own, or pursuant to policies established by other Federal, state or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. No environmental impact assessment has been prepared.

Regulatory Flexibility Act. The Acting Executive Associate Director, Mitigation Directorate, certifies that this proposed rule is exempt from the requirements of the Regulatory Flexibility Act because proposed or modified base flood elevations are required by the Flood Disaster Protection Act of 1973, 42 U.S.C. 4104, and are required to establish and maintain community eligibility in the NFIP. As a result, a regulatory flexibility analysis has not been prepared.

Regulatory Classification. This proposed rule is not a significant regulatory action under the criteria of Section 3(f) of Executive Order 12866 of September 30, 1993, Regulatory Planning and Review, 58 FR 51735.

Executive Order 12612, Federalism. This proposed rule involves no policies that have federalism implications under Executive Order 12612, Federalism, dated October 26, 1987.

Executive Order 12778, Civil Justice Reform. This proposed rule meets the applicable standards of Section 2(b)(2) of Executive Order 12778.

List of Subjects in 44 CFR Part 67

Administrative practice and procedure, Flood insurance, Reporting and recordkeeping requirements.

Accordingly, 44 CFR Part 67 is proposed to be amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location | #Depth in feet above ground. *Elevation in feet (NGVD) •Elevation in feet (NAVD): Existing | #Depth in feet above ground. *Elevation in feet (NGVD) •Elevation in feet (NAVD): Modified
Florida | Gulf County (Unincorporated Areas) | Gulf of Mexico | Along the coast of the Gulf of Mexico approximately 1,000 feet north of Eagle Harbor | *13 | *12
|  |  | Along the Gulf of Mexico shoreline approximately 1,500 feet west of Indian Pass | *14 | *13
|  | St. Joseph Bay | Approximately 1,500 feet inland from St. Joseph Bay, along the shoreline of St. Joseph Bay | *9 | *8
|  |  | Along the St. Joseph Bay shoreline, approximately 3 miles southeast of Pig Island | *10 | *11
|  | Indian Lagoon | Along the shoreline of Indian Lagoon, approximately 1,000 feet west of Indian Pass | *11 | *9
|  |  | Approximately 500 feet west of Indian Pass | *11 | *10
Maps available for inspection at the Gulf County Courthouse, 1000 Cecil G. Costin, Sr., Boulevard, Room 302, Port St. Joe, Florida.
Send comments to Mr. Nathan Peters, Jr., Chairman of the Gulf County Board of Commissioners, 1000 Cecil G. Costin, Sr., Boulevard, Room 302, Port St. Joe, Florida 32456.
Florida | Port St. Joe (City). Gulf County | St. Joseph Bay | Intersection of 11th Street and Palmer Boulevard | None | *8
|  |  | Approximately 250 feet west of intersection of Constitution Drive and 14th Street | *10 | *12
|  |  | At intersection of 16th Street and Long Avenue | *7 | *8
|  | Shallow Flooding | Approximately 425 feet southeast of intersection of Fourth Street and Woodward Avenue | *10 | *8
Maps available for inspection at the City of Port St. Joe Chamber of Commerce Office, 105 West 4th Street, Port St. Joe, Florida.
Send comments to The Honorable Frank Pate, Jr., Mayor of the City of Port St. Joe, 305 Cecil G. Costin, Sr., Boulevard, Port St. Joe, Florida 32456.
Illinois | Champaign County (Unincorporated Areas) | Sangamon River | Approximately 1,000 feet downstream from the Township Road 2000 North (Shively) bridge | None | *676
|  |  | At Lake of the Woods covered bridge | None | *689
Maps available for inspection at the Champaign County Department of Planning and Zoning, Brookens Administrative Center, 1776 East Washington Street, Urbana, Illinois
Illinois | Mahomet (Village), Champaign County | Sangamon River | Approximately 800 feet downstream of downstream corporate limits | None | *677
|  |  | Approximately 1,800 feet downstream of upstream corporate limits | None | *689
Maps available for inspection at the Mahomet Village Hall, 503 East Main Street, Mahomet, Illinois.
Send comments to The Honorable Jeff Courson, Mayor of the Village of Mahomet, 503 Main Street, P.O. Box 259, Mahomet, Illinois 61853.
Illinois | Milan (Village), Rock Island County | Eckhart Creek (Zone AO). | East of Chaney Lane and approximately 500 feet south of Interstate Route 280 | None | #1
|  |  | Approximately 600 feet north of W 10th Avenue and approximately 450 feet east of 9th Street | None | #1
|  |  | Northwest of Missouri Kansas and Texas Railroad and approximately 600 feet south of Interstate Route 280 | None | #1
Maps available for inspection at the Village of Milan Administrative Office, 321 West 2nd Avenue, Milan, Illinois.
Send comments to Mr. Duane Dawson, Milan Village President, 321 West 2nd Avenue, Milan, Illinois 61264.
Maine | Allagash (Town) Aroostook County | St. John River | Approximately 3.68 miles downstream of State Route 161 | None | *603
|  |  | Approximately 550 feet upstream of confluence of Little Black River | None | *627
|  | Little Black River | At the confluence with St. John River | None | *626
|  |  | Approximately 125 feet upstream of Route 161 | None | *626
Maps available for inspection at the Allagash Town Office, Route 161, Allagash, Maine.
Send comments to Mr. Roy Gardner, Town of Allagash First Selectman, Municipal Building, R.R. 1, P.O. Box 127, St. Francis, Maine 04774.
Massachusetts | Scituate (Town), Plymouth County | Massachusetts Bay | Approximately 500 feet east of intersection of Crescent Avenue and Peggotty Beach Road | *25 | *27
|  |  | Approximately 100 feet east of intersection of Wellesley Road and Jericho Road. | None | *10
|  |  | Approximately 150 feet west of Intersection of Wampatuck Way and Turner Road. | *11 | Depth 3′
|  |  | Approximately 900 feet northeast of intersection of Circuit Avenue and Edward Foster Road. | Depth 2′ | Depth 3′
|  |  | At intersection of Baileys Causeway and Glades Road. | Depth 1′ | Depth 2′
Maps available for inspection at Scituate Town Hall, 600 Chief Justice Highway, Scituate, Massachusetts.
Send comments to Mr. Richard Agnew, Scituate Town Administrator, 600 Chief Justice Cushing Highway, Scituate, Massachusetts 02066.
Massachusetts | Worcester (City), Worcester County | Broad Meadows Brook | Approximately 240 feet downstream of U.S. Highway 20 | None | *450
|  |  | Approximately 1.6 miles upstream of U.S. Highway 20. | None | *484
|  | Beaver Brook | Approximately 175 feet downstream of Mill Street bridge. | *480 | *480
|  |  | At Maywood Street. | *484 | *481
Maps available for inspection at the Worcester Environmental/Land Use Planner's Office, 25 Meade Street, Worcester, Massachussetts.
Send comments to Mr. Thomas R. Hoover, Worcester City Manager, Worcester City Hall, 455 Main Street, Worcester, Massachusetts 01608.
New Jersey | Weymount (Township), Atlantic County | Tuckahoe River | At the downstream corporate limits | None | *56
|  |  | At the upstream corporate limits | None | *77
|  | Great Egg Harbor River | At the confluence of the South River | None | *9
|  |  | At the upstream corporate limits | None | *9
|  | South River | At Walkers Forge Avenue | None | *16
|  |  | Approximately 500 feet upstream of upstream corporate limits | None | *38
Maps available for inspection at the Weymouth Township Hall, 45 South Jersey Avenue, Dorothy, New Jersey.
Send comments to The Honorable Amelia A. Messina, Mayor of the township of Weymount, P.O. Box 53, Dorothy, New Jersey 08317.
New York | Mina (Town), Chautauqua County | Findley Lake | Entire shoreline of Findley Lake | None | *1,423
Maps available for inspection at the Mina Town Community Center, 2883 North Road, Findley Lake, New York.
Send comments to Ms. Rebecca Brumagin, Mina Town Supervisor, P.O. Box 38, 2883 North Road, Findley Lake, New York 14736.
New York | Sardinia (Town), Erie County | Hosmer Brook | Approximately 0.83 mile downstream of State Route 39 | None | *1,320
|  |  | Approximately 80 feet upstream of Genesee Road. | None | *1,408
Maps available for inspection at the Sardinia Community Center, 12320 Savage Road, Sardinia, New York.
Send comments to Mr. William Hare, Sardinia Town Supervisor, P.O. Box 219, 12320 Savage Road, Sardinia, New York 14134.
Ohio | Bloomingburg (Village), Fayette County | East Fork Paint Creek | Upstream side of Midland Avenue (State Route 38) | None | •973
|  |  | Approximately 0.5 mile upstream of State Route 38. | None | •974
Maps available for inspection at Bloomingburg Village Hall, 62 Main Street, Bloomingburg, Ohio.
Send comments to The Honorable James Fabin, Mayor of the Village of Bloomingburg, 62 Main Street, Box 186, Bloomingburg, Ohio 43106.
Ohio | Fayette County (Unincorporated Area) | East Fork Paint Creek | Approximately 300 feet upstream of confluence with Paint Creek | *955 | •954
|  |  | Approximately 0.90 mile upstream of Greene Road | None | •1,026
|  | Rattlesnake Creek | At Milledgeville-Octa Road | None | •1,038
|  |  | Approximately 130 feet upstream of State Route 734 | None | •1,058
|  | Sugar Creek | Approximately 150 feet downstream of parrott Station Road | None | •1,025
|  |  | Approximately 1,500 feet upstream of Main Street | None | •1,048
Maps available for inspection at the Fayette County Building Department, 121 E. East Street, Washington Court House, Ohio.
Send comments to Mr. John M. Schlichter, President of the Fayette County Commissioners, 133 South Main Street, Suite 401, Washington Court House, Ohio 43160.
Ohio | Octa (Village), Fayette County | Rattlesnake Creek | At the downstream side of Allen Road | None | *1,041
|  |  | Approximately 175 feet upstream of Allen | None | *1,041
Maps available for inspection at the Village of Octa Council House, Allen Street, Milledgeville, Ohio.
Send comments to The Honorable Robert E. Ison, Mayor of the Village of Octa, P.O. Box 63, Milledgeville, Ohio 43142.
Ohio | Washington Court House (City), Fayette County | East Fork Paint Creek | Approximately 1,375 feet downstream of Washington Avenue | *956 | *954
|  |  | Approximately 1.2 miles upstream of Washington Avenue | *960 | *959
Maps available for inspection at the Washington Court House City Hall, 105 North Main Street, Washington Court House, Ohio.
Send comments to Mr. Stephen J. Sobers, Washington Court House City Manager, 105 North Main Street, Washington Court House, Ohio 43160.
Pennsylvania | Bullskin (Township), Fayette County | Jacobs Creek | At the downstream corporate limits | *1,039 | *1,037
|  |  | At a point approximately 250 feet upstream of State Route 31 | *1,143 | *1,142
Maps available for inspection at the Bullskin Township Municipal Building, 178 Shenandoah Road, Connellsville, Pennsylvania.
Send comments to Mr. Robert Butler, Chairman of the Township of Bullskin Board of Supervisors, 178 Shenandoah Road, Connellsville, Pennsylvania 15425.
Pennsylvania | Everson (Borough), Fayette County | Jacobs Creek | Approximately 2,400 feet downstream of 5th Avenue | *1,027 | *1,025
|  |  | Upstream corporate limits | *1,031 | *1,029
Maps available for inspection at the Everson Borough Building, Brown Street, Everson, Pennsylvania.
Send comments to The Honorable Timothy Shoemaker, Mayor of the Borough of Everson, Municipal Building, Brown Street, Everson Pennsylvania 15631.
Pennsylvania | Timicum (Township), Bucks County | Delaware River | Approximately 0.25 mile upstream of Uhlerstown Hill Road | *126 | *127
|  |  | Approximately 1.17 miles downstream of Upper Black Eddy Bridge | *135 | *134
|  | Delaware River | At confluence with the Delaware River | *127 | *128
|  | Overland Flow | At divergence from the Delaware River | *135 | *133
Maps available for inspection at the Tinicum Municipal Building, 163 Municipal Road, Pipersville, Pennsylvania.
Send comments to Mr. Gary Pearson, Chairperson of the Township of Tinicum Board of Supervisors, 163 Municipal Road, Pipersville, Pennsylvania 18947.
Pennsylvania | Upper Tyrone (Township), Fayette County | Jacobs Creek | At State Route 819 | *1,021 | *1,020
|  |  | At upstream corporate limits | *1,039 | *1,037
|  | Stauffer Run | At confluence with Jacobs Creek | *1,034 | *1,030
|  |  | At upstream corporate limits | *1,034 | *1,031
Maps available for inspection at the Upper Tyrone Township Building, 259 Montgomery Road, Scottdale, Pennsylvania.
Send comments to Mr. Jack E. Fullem, Upper Tyrone Township Supervisor, 509 Hickory Square Road, Connellsville, Pennsylvania 15425.
Tennessee | Chattanooga (City), Hamilton County | North Chickamauga Creek | At confluence with the Tennessee River | *661 | *660
|  |  | Approximately 200 feet downstream of Thrasher Pike | *684 | *682
|  | Tennessee River | Approximately 1,625 feet downstream of Shoal Creek | *651 | *650
|  |  | Just downstream of Chicakmauga Dam | *651 | *660
|  | Mountain Creek | At the confluence wiht the Tennessee River | *653 | *652
|  |  | Approximately 1,109 feet upstream of the Norfolk Southern Railway | *653 | *652
|  | Lookout Creek | At the confluence with Tennessee River | *655 | *654
|  |  | Approximately 160 feet upstream of the confluence of Black Creek | *655 | *654
|  | Black Creek | At the confluence with Lookout Creek | *655 | *654
|  |  | At downstream side of Norfolk Southern Railway (first crossing) | *655 | *654
|  | Shallow Flooding Areas | In the vicinity of the Tennessee River, south of Cherokee Boulevard | *657 | *656
|  | Stringers Branch | At the confluence with Mountain Creek | *653 | *652
|  |  | At Signal Mountain Road | *653 | *652
|  | Chattanooga Creek | Approximately 850 feet downstream of Market Street | *656 | *655
|  |  | At downstream side of 2nd crossing of Norfolk Southern Railway | *656 | *655
Maps available for inspection at the City of Chattanooga City Hall Annex, 101 East 11th Street, Room 44, Chattanooga, Tennessee.
Send comments to The Honorable Bob Corker, Mayor of the City of Chattanooga, City Hall, East 11th Street, Room 100, Chattanooga, Tennessee 37402.
Tennessee | East Ridge (City) Hamilton County | Spring Creek | At Interstate 75 | *678 | *679
|  |  | At Spring Creek Road | *678 | *679
|  | South Chickamauga Creek | Approximately 800 feet downstream of 4th crossing of Louisville and Nashville Railroad | *677 | *678
|  |  | At upstream state boundary | *691 | *689
Maps available for inspection at the Building Department, 1517 Tombras Avenue, East Ridge, Tennessee.
Send comments to The Honorable Fred Pruett, Mayor of the City of East Ridge, 1517 Tombras Avenue, East Ridge, Tennessee 37412.
Tennessee | Hamilton County (Unincorporated areas) | Rogers Branch | At confluence with Wolftever Creek | *688 | *687
|  |  | At Access/Mountain View Road | None | *748
|  | Rogers Branch Tributary | At confluence with Rogers Branch | None | *719
|  |  | Approximately 550 feet upstream of Interstate 75 | None | *742
|  | Wolftever Creek | At the confluence with Wolftever Creek Tributary | *762 | *761
|  |  | Approximately 2,200 feet upstream of Bill Reed Road | None | *795
|  | Little Soddy Creek | At the City of Soddy-Daisy corporate limits | None | *820
|  |  | Approximately 120 feet upstream of the City of Soddy-Daisy corporate limits | None | *823
|  | Lookout Creek | Approximately 135 feet downstream of the Norfolk Southern Railway | *655 | *654
|  |  | Approximately 525 feet upstream of Cummings Highway | *655 | *654
|  | Tennessee River | At the county boundary | *649 | *650
|  |  | At the confluence of Shoal Creek | *652 | *650
|  | Fruedenberg Creek | Approximately 250 feet upstream of confluence with Middle Creek | None | *1,670
|  |  | Approximately 0.9 mile upstream of confluence with Middle Creek | None | *1,777
|  | Lick Branch | At confluence with North Chickamauga Creek | *671 | *670
|  |  | Approximately 50 feet downstream of Thrasher Pike | None | *676
|  | Lick Branch | At confluence with Lick Branch | *671 | *670
|  | Tributary | Approximately 100 feet downstream of Thrasher Pike | None | *683
|  | Lick Branch | At confluence with Lick Branch | *671 | *670
|  | Tributary 2 | Approximately 50 feet downstream of Thrasher Pike | None | *675
|  | Lick Branch | At confluence with Lick Branch | *671 | *670
|  | Tributary 3 | Approximately 50 feet downstream of Thrasher Pike | None | *680
|  | Middle Creek | Approximately 1,100 feet downstream of Edwards Point Road | None | *1,634
|  |  | Approximately 50 feet downsteam of Timesville Road | None | *1,718
|  | North Chickamauga Creek | At the upstream side of Lower Mill Road | *670 | *669
|  |  | Approximately 1 mile upstream of Dayton Pike | *754 | *753
|  | Possum Creek | At Lee Pike | *688 | *687
|  |  | Approximately 1.4 miles upstream of Black Valley Road | *861 | *862
|  | Sale Creek | At the confluence with the Tennessee River | *687 | *688
|  |  | Approximately 1,580 feet upstream of the confluence with the Tennessee River | *687 | *688
Maps available for inspection at the Regional Planning Agency, County Courthouse, Room 208, Chattanooga, Tennessee.
Send comments to Mr. Claude Ramsey, Hamilton County Executive, County Courthouse, Room 208, Chattanooga, Tennessee 37402.
Tennessee | Red Bank (City), Hamilton County | Stringers Branch | Approximately 400 feet downstream of Signal Mountain Road | *653 | *652
|  |  | At Barker Road | None | *785
Maps available for inspection at the Red Bank City Hall, 3117 Dayton Boulevard, Red Bank, Tennessee.
Send comments to The Honorable Ronnie Moore, Mayor of the City of Red Bank, 3117 Dayton Boulevard, P.O. Box 15069, Red Bank, Tennessee 37415.
Virginia | Fairfax City (Independent Citry) | Accotink Creek | At the downstream corporate limits | *287 | *289
|  |  | Approximately 50 feet upstream of Poplar Street | *396 | *397
|  | Dale Lestina Tributary | At the confluence with North Fork Accotink Creek | *312 | *313
|  |  | Approximately 500 feet upstream of Plantation Parkway | None | *344
|  | Daniels Run | At the confluence with Accotink Creek | *295 | *296
|  |  | Approximately 1,030 feet upstream of Sager Avenue | *400 | *406
|  | Draper Drive Tributary | Approximately 750 feet upstream of confluence with Accotink Creek | None | *307
|  |  | Approximately 920 feet upstream of the confluence with Accotink Creek | None | *311
|  | Little River Hills Tributary | Approximately 150 feet upstream of the confluence with Daniels Run | None | *328
|  |  | Approximately 1,460 feet upstream of Ashby Road | None | *379
|  | Mosby Woods Tributary | At the confluence with North Fork Accotink Creek | *328 | *332
|  |  | Approximately 1,940 feet upstream of confluence with North Fork Accotink Creek | None | *342
|  | North Fork | At the confluence with Accotink Creek | *310 | 313
|  | Accotink Creek | Approximately 800 feet upstream of Howerton Avenue | None | *382
|  | Ranger Road Tributary | At the confluence with Accotink Creek | *309 | *312
|  |  | Approximately 260 feet upstream of Ranger Road | None | *314
|  | Tusico Branch | At the confluence with Accotink Creek | *360 | *362
|  |  | Approximately 570 feet upstream of Keith Avenue | *377 | *373
|  | Tusico Branch (area of shallow flooding) | Approximately 570 feet upstream of Keith Avenue | *377 | #2
|  |  | Approximately 625 feet upstream of Scott Drive | None | #2
Maps available for inspection at the Fairfax City Hall, 10455 Armstrong Street, Room 204, Fairfax, Virginia.
Send comments to Mr. Robert Sissan, Fairfax City Manager, 10455 Armstrong Street, Fairfax, Virginia 22030.
Virginia | Grottoes (Town), Augusta and Rockingham Counties | Miller Run | Approximately 60 feet downstream of 21st Street | None | *1,090
|  |  | Approximately 60 feet upstream of Cary Street | None | *1,152
Maps available for inspection at the Grottoes Town Office, 601 Dogwood Avenue, Grottoes, Virginia.
Send comments to Mr. Timonty E. Crider, Grottoes Town Superintendent, P.O. Box 146, Grottoes, Virginia 24441.
Wisconsin | Lincoln County (Unincorporated Areas) | Wisconsin River | Approximately 1.37 miles downstream of Alexander Dam | None | *1,258
|  |  | At downstream side of Alexander Dam | None | *1,261
|  | Prairie River | Approximately 528 feet downstream of Mill Street | None | *1,263
|  |  | Approximately 0.9 mile upstream of U.S. Business Highway 51 | *1,273 | *1,274
Maps available for inspection at the Lincoln County Zoning Office, 1110 East Main Street, Merrill, Wisconsin.
Send comments to Mr. Phil Cohrs, Chairman of the Lincoln County Board, 1110 East Main Street, Merrill, Wisconsin 54452.
Wisconsin | River Falls (City), St. Croix and Pierce Counties | Kinnickinnic River | Approximately 1.1 miles downstream of the confluence of South Fork Kinnickinnic River | None | *806
|  |  | Approximately 400 feet upstream of State Route 35/65 | *897 | *898
|  | Rocky Branch | Approximately 850 feet upstream of confluence with Kinnickinnic River | None | *805
|  |  | Approximately 2,230 feet upstream of confluence with Kinnickinnic River | None | *814
|  | South Fork | At confluence with Kinnickinnic River | *837 | *828
|  | Kinnickinnic River | Approximately 575 feet upstream of State Route 35/65 | *900 | *906
|  | South Fork Kinnickinnic River | At confluence with South Fork Kinnickinnic River | *901 | *906
|  | Tributary No. 2 | Approximately 950 feet upstream of South Fork Kinnickinnic River | None | *907
Maps available for inspection at the River Falls City Hall, 123 East Elm Street, River Falls, Wisconsin.
Send comments to The Honorable Katie Chaffee, Mayor of the City of River Falls, 123 East Elm Street, River Falls, Wisconsin 54022.

(Catalog of Federal Domestic Assistance No. 83.100, “Flood Insurance.”)
Dated: May 15, 2002.
Robert F. Shea,
Acting Administrator, Federal Insurance and Mitigation Administration.

[FR Doc. 02-12652 Filed 5-20-02; 8:45 am]

BILLING CODE 6718-04-P